DEPARTMENT OF STATE

[Public Notice 8384]

Privacy Act; System of Records: Human Resources Records, State-31

SUMMARY: Notice is hereby given that the Department of State proposes to amend an existing system of records, Human Resources Records, State-31, pursuant to the provisions of the Privacy Act of 1974, as amended (5 U.S.C. 552a) and Office of Management and Budget Circular No. A-130, Appendix I.

DATES: This system of records will be effective on August 28, 2013, unless we receive comments that will result in a contrary determination.

ADDRESSES: Any persons interested in commenting on the amended system of records may do so by writing to the Director; Office of Information Programs and Services, A/GIS/IPS, Department of State, SA-2, 515 22nd Street NW., Washington, DC 20522-8001.

FOR FURTHER INFORMATION CONTACT: Director; Office of Information Programs and Services, A/GIS/IPS, Department of State, SA-2, 515 22nd Street NW., Washington, DC 20522-8001.

SUPPLEMENTARY INFORMATION: The Department of State proposes that the current system will retain the name “Human Resources Records” (previously published as 65 FR 69359). The information collected and maintained in this system is in keeping with the Department's mission to document all processes associated with individual employment histories and career progression; to ensure that all employees and potential employees have equal opportunities; and to make personnel management determinations about employees throughout their Federal careers. The proposed system will include administration updates and modifications to the following sections: Categories of individuals, Categories of records, Routine uses, and Safeguards.

The Department's report was filed with the Office of Management and Budget. The amended system description, “Human Resources Records, State-31,” will read as set forth below.

Joyce A. Barr,
Assistant Secretary for Administration, U.S. Department of State.

STATE-31

SYSTEM NAME:

Human Resources Records.

SECURITY CLASSIFICATION:

Classified and unclassified.

SYSTEM LOCATION:

Department of State, 2201 C Street NW., Washington, DC 20520; State Annex 01, 2401 E Street NW., Washington, DC 20037; State Annex 03, 2121 Virginia Avenue NW., Washington, DC 20037; State Annex 44, 301 4th Street SW., Washington, DC 20547; overseas at U.S. embassies, U.S. consulates general, and U.S. consulates; U.S. missions; and the National Personnel Records Center, 111 Winnebago Street, St. Louis, MO 63118.

CATEGORIES OF INDIVIDUALS COVERED BY THE SYSTEM:

All applicants for employment with the Department of State (including unsuccessful applicants); all current and former Civil Service (CS) and Foreign Service (FS) employees of the Department of State including members of the Senior Executive Service (SES), Presidential Appointees, employees under full-time, part-time, intermittent, temporary, and limited appointments; anyone serving in an advisory capacity (compensated and uncompensated); other agency employees on detail to the Department of State; former Foreign Service Reserve Officers; student applicants for internships, Presidential Management Fellows, Foreign Affairs Fellowship Program Fellows, student interns and other student summer hires, Stay-in-School student employees, and Cooperative Education Program participants; and prospective alien spouses and cohabitants of Department of State employees.

CATEGORIES OF RECORDS IN THE SYSTEM:

Categories of records may include identifying information, such as, but not limited to, name, date of birth, home address, mailing and email addresses, numeric identifier (such as employee identification number, SGID, or Social Security number) and telephone numbers. Types of files include documents relating to class action lawsuits, annuitants under the Foreign Service Retirement and Disability System and the Foreign Service Pension System as well as Civil Service annuitants, prospective alien spouses and cohabitants of Department employees, employees who apply for their spouses or children to be expeditiously naturalized, employees detailed or seconded to international organizations, Foreign Service personnel separated for cause; official personnel files; documents relating to merit promotions, recruitment and employment, employee relations, career development and counseling, performance, conduct, suitability, and discipline, Foreign Service promotion and Permanent Change of Station (PCS) travel. These records may contain any documents not otherwise stated relating to employment, to include, but not limited to, hiring, employment and separation from the Department.

AUTHORITY FOR MAINTENANCE OF THE SYSTEM:

22 U.S.C. 2581 (General Authority of Secretary of State); 22 U.S.C. 2651a (Organization of the Department of State); 22 U.S.C. 3901 et seq. (Foreign Service Act of 1980); 22 U.S.C. 3921 (Management of the Foreign Service); 22 U.S.C. 4041 (Administration of the Foreign Service Retirement and Disability System); 5 U.S.C. 301-302 (Management of Executive Departments); Executive Order 9397, as amended (Numbering System for Federal Accounts Relating to Individual Persons); Executive Order 9830 (Amending the Civil Service Rules and Providing for Federal Personnel Administration); and Executive Order 12107 (Relating to the Civil Service Commission and Labor-Management in the Federal Service) and successor authorities.

PURPOSE:

The information collected and maintained in this system is in keeping with the Department's mission to document all processes associated with individual employment histories and career progression; to ensure that all employees and potential employees have equal opportunities; and to make personnel management determinations about employees throughout their Federal careers.

ROUTINE USES OF RECORDS MAINTAINED IN THE SYSTEM, INCLUDING CATEGORIES OF USERS AND THE PURPOSES OF SUCH USES:

The information in Human Resources Records may be shared:

A. With consulting services that provide information about available aids, devices and methods of accommodating employees with disabilities;

B. With the Office of Personnel Management for its government-wide personnel management functions such as pay, benefits, and retirement deductions or other relevant personnel processes;

C. With other Federal agencies, state governments, foreign governments and international organizations where employees are being considered for detail, assignment or secondment;

D. With academic institutions to which Department employees may be assigned for long-term training;

E. With any member of an agency's Performance Review Board or other panel when the member is not an official of the employing agency. Information would then be used for approving or recommending selection of candidates for Executive development or Senior Executive Service (SES) candidate programs, issuing a performance rating of record, issuing performance awards, nominating for meritorious and distinguished executive ranks, removal, reduction in grade, and other personnel actions based on performance;

F. With attorneys, union representatives or other persons designated by employees in writing to represent them in complaints, grievance, appeal, or litigation cases;

G. With requestors in determining a former spouse's entitlement to benefits and other inquiries related to retirement benefits;

H. With the President of the United States, the Executive Office of the President and legislative and appropriations committees of the U.S. Congress charged with consideration of legislation and appropriations for the Foreign Service, or representatives duly authorized by such committees;

I. With labor organization officials when such information is relevant to personnel policies affecting employment conditions and necessary for exclusive representation by the labor organization;

J. With officials of foreign governments and other U.S. government agencies for clearance before a Federal employee is assigned to that country as well as for the procurement of necessary services for American personnel assigned overseas, such as permits of free entry and identity cards;

K. With the Department of Labor, Department of Veterans Affairs, Social Security Administration, Department of Defense, or any other Federal agencies that have special civilian employee retirement and disability programs; or to a national, state, county, municipal, or other publicly recognized income administration agency (e.g. State unemployment compensation agencies), when necessary to adjudicate a claim under the retirement, insurance, unemployment or health benefits programs of the Department or an agency cited above, or to an agency to conduct an analytical study or audit of benefits being paid under such programs;

L. With the Office of Federal Employees Group Life Insurance, information necessary to verify election, declination, or waiver of regular and/or optional life insurance coverage, or eligibility for payment of a claim for life insurance;

M. With health insurance carriers contracting with the Federal government to provide a health benefits plan under the Federal Employees Health Benefits Program, information necessary to identify enrollment in a plan, to verify eligibility for payment of a claim for health benefits, or to carry out the coordination or audit of benefit provisions of such contracts;

N. With any person who is responsible for the care of an individual to whom a record pertains who is mentally incompetent or under other legal disability. Information in the individual's record may be disclosed to said person to the extent necessary to assure payment of benefits to which the individual is entitled;

O. With public and private organizations, including news media, which grant or publicize employee recognition to consider and select employees for incentive awards and other honors and to publicize awards and honors granted;

P. With the Department of Justice in connection with proceedings before a court, adjudicative body, or other administrative body when any of the following is a party to litigation or has an interest in such litigation and the Department of State determines that the use of such records is arguably relevant and necessary to the litigation of (1) the Department of State or any component thereof, (2) any employee of the Department of State in his or her official capacity, (3) any employee of the Department of State in his or her individual capacity where the Department of Justice or the Department of State has agreed to represent the employee, or (4) the United States, when the Department of State determines that litigation is likely to affect the Department of State or any of its components;

Q. To implement court decisions and/or terms of settlement agreements reached by the parties;

R. To prepare reports to the courts in compliance with monitoring requirements;

S. In response to an order from a court or an administrative body directing the production of personnel records (including, but not limited to the Equal Employment Opportunity Commission, the Foreign Service Grievance Board and the Merit Systems Protection Board);

T. With other Government agencies and private organizations, institutions or individuals to verify employment, to process security clearances and to request record or credit checks;

U. To provide an official of another Federal agency information needed in the performance of official duties in support of the functions for which the records were collected and maintained;

V. To disclose information to Equal Employment Opportunity (EEO) counselors and EEO investigators in connection with EEO complaints and to the Equal Employment Opportunity Commission when requested in connection with investigations of alleged or possible discrimination practices in the Federal sector, examination of Federal affirmative employment programs, compliance by Federal agencies with the Uniform Guidelines on Employee Selection Procedures, or other functions vested in the Commission;

W. With the Department of Labor's Office of Workers' Compensation programs relating to benefits under the Federal Employees Compensation Act; and

X. To disclose information to the news media and the public when a matter involving the Department of State has become public knowledge; the Under Secretary for Management determines that in response to the matter in the public domain, disclosure is necessary to provide an accurate factual record on the matter; and the Under Secretary for Management determines that there is a legitimate public interest in the information disclosed.

The Department of State periodically publishes in the Federal Register its Prefatory Statement of Routine Uses which applies to all of its Privacy Act systems of records. These standard routine uses apply to Human Resources Records, State-31.

DISCLOSURE TO CONSUMER REPORTING AGENCIES:

None.

POLICIES AND PRACTICES FOR STORING, RETRIEVING, ACCESSING, RETAINING, AND DISPOSING OF RECORDS IN THE SYSTEM:

STORAGE:

Electronic media and hard copy.

RETRIEVABILITY:

By an individual name and numeric identifier.

SAFEGUARDS:

All users are given cyber security awareness training which covers the procedures for handling Sensitive but Unclassified information, including personally identifiable information (PII). Annual refresher training is mandatory. In addition, all Foreign Service and Civil Service employees and those Locally Engaged Staff who handle PII are required to take the Foreign Service Institute distance learning course, PA 459, instructing employees on privacy and security requirements, including the rules of behavior for handling PII and the potential consequences if it is handled improperly. Before being granted access to Human Resources Records, a user must first be granted access to the Department of State computer system.

Remote access to the Department of State network from non-Department owned systems is authorized only to unclassified systems and only through a Department approved access program. Remote access to the network is configured with the Office of Management and Budget Memorandum M-07-16 security requirements which include, but are not limited to, two-factor authentication and time out function.

All Department of State employees and contractors with authorized access have undergone a thorough background security investigation. Access to the Department of State, its annexes and posts abroad is controlled by security guards and admission is limited to those individuals possessing a valid identification card or individuals under proper escort. All paper records containing personal information are maintained in secured file cabinets in restricted areas, access to which is limited to authorized personnel only. Access to computerized files is password-protected and under the direct supervision of the system manager. The system manager has the capability of printing audit trails of access from the computer media, thereby permitting regular and ad hoc monitoring of computer usage. When it is determined that a user no longer needs access, the user account is disabled.

RETENTION AND DISPOSAL:

These records will be maintained until they become inactive, at which time they will be retired or destroyed in accordance with published records schedules of the Department of State and as approved by the National Archives and Records Administration. More specified information may be obtained by writing to the Director, Office of Information Programs and Services, A/GIS/IPS, SA-2, Department of State, 515 22nd Street NW., Washington, DC 20522-8100.

SYSTEM MANAGER(S) AND ADDRESS:

The Director General of the Foreign Service and Director of Human Resources, Department of State; 2201 C Street NW., Washington, DC 20520.

NOTIFICATION PROCEDURE:

Individuals who have reason to believe that the Bureau of Human Resources might have records pertaining to themselves should write to the Director; Office of Information Programs and Services, A/GIS/IPS; SA-2, Department of State; 515 22nd Street NW., Washington, DC 20522-8100. The individual must specify that he or she wishes the Human Resources Records to be checked. At a minimum, the individuals must include: name; date and place of birth; approximate dates of employment with the Department of State or when in process for a potential appointment; current mailing address and zip code; signature; and other information helpful in identifying the record.

RECORD ACCESS PROCEDURES:

Individuals who wish to gain access to or amend records pertaining to themselves should write to the Director; Office of Information Programs and Services (address above).

CONTESTING RECORD PROCEDURES:

(See above.)

RECORD SOURCE CATEGORIES:

These records contain information obtained directly from the individual who is the subject of these records, previous employers, supervisors, Foreign Service inspectors, any/all offices within the Bureau of Human Resources (counselors, placement officers, and personnel technicians), other bureaus (administrative/executive officers, personnel and payroll offices, security, medical, and legal), reports of the Board of Examiners of the Foreign Service, Foreign Service Employee Evaluation Reports and Selection Board findings, the Foreign Service Institute, colleges, universities, Armed Forces academic institutions, contractors responsible for administration of the Foreign Service written examination, and other authorized agencies administering pre-employment tests, Office of Personnel Management and other Federal agencies, prospective alien spouses of Foreign Service employees; grievance staff and appeals boards, affidavits and testimony of witnesses.

SYSTEMS EXEMPTED FROM CERTAIN PROVISIONS OF THE ACT:

Pursuant to 5 U.S.C. 552a (k)(1), subject to the provisions of section 552(b)(1), records are exempted from 5 U.S.C. 552a (c)(3), (d), (e)(1), (e)(4)(G), (H) and (I), and (f) to protect material required to be kept Secret. Pursuant to 5 U.S.C. 552a (k)(4), records contained within this system that are maintained solely for statistical purposes are also exempted from 5 U.S.C. 552a (c)(3), (d), (e)(1), (e)(4)(G), (H) and (I), and (f). Pursuant to 5 U.S.C. 552a (k)(5) and (k)(7), certain records contained within this system contain confidential source information and are exempted from 5 U.S.C. 552a (c)(3), (d), (e)(1), (e)(4)(G), (H) and (I), and (f). Pursuant to 5 U.S.C. 552a (k)(6), records that contain testing or examination material the release of which may compromise testing or examination procedures are also exempted from 5 U.S.C. 552a (c)(3), (d), (e)(1), (e)(4)(G), (H) and (I), and (f). See Department of State Rules published in 22 CFR 171.

[FR Doc. 2013-17391 Filed 7-18-13; 8:45 am]

BILLING CODE 4710-26-P